DEPARTMENT OF HEALTH AND HUMAN SERVICES

Centers for Disease Control and Prevention

[30Day-14-0906]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agency's estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

The Green Housing Study (OMB No. 0920-0906, expires 11/30/2014)—Extension—National Center for Environmental Health (NCEH), Centers for Disease Control and Prevention (CDC).

Background and Brief Description

The Centers for Disease Control and Prevention (CDC) is seeking a three-year extension of OMB approval for the Green Housing Study. The information collected will help scientists better understand whether green building design features reduce human exposures to chemical and biological agents in the home and/or improve respiratory health of children with asthma. This study directly supports CDC's Healthy People 2020 Healthy Homes' health protection goal. This investigation is also consistent with CDC's Health Protection Research Agenda, which calls for research to identify the major environmental causes of disease and disability and related risk factors.

In 2011, CDC funded two study sites for the Green Housing Study; one location was in Boston and the other was in Cincinnati. In these two cities, renovations sponsored by the Department of Housing and Urban Development (HUD) had already been scheduled. By selecting sites in which renovations were already scheduled to occur, CDC can leverage the opportunity to collect survey and biomarker data from residents and collect environmental measurements in homes in order to evaluate associations between green housing and health.

Although the first two study sites have provided insight into how specific green building practices (e.g., use of low chemical-emitting paints and carpets) can influence levels of substances in the home such as volatile organic compounds (VOCs), more study sites in different geographic locations will help scientists understand if these relationships hold in different climates and housing stock. This ongoing study provides a foundation to explore the potential for green affordable housing to promote healthy homes principles. This will be accomplished by gathering data from a total of thirteen study sites across the United States.

Study participants will continue to include children with asthma and their mothers/primary caregivers living in HUD-subsidized housing that has either been scheduled to receive a green renovation or is a comparison home (i.e., no renovation). The following are eligible for the study: (1) Children age 7-12 years with asthma and (2) mothers/primary caregivers. The length of follow-up is one year. Questionnaires regarding home characteristics and respiratory symptoms of the children will be administered at 1- to 6-month intervals. Environmental sampling of the air and dust in the respondents' homes will be conducted over a 1-year period: Once in the home before rehabilitation (Baseline), and then at three time points after rehabilitation has been completed (Baseline Part 2, 6 months, and 12 months).

The response rate from enrollment through the end of data collection for the first two study sites was 82%. The expected response rate for the overall study is 80%. To reach the desired number of respondents approximately 1,000 adults (mothers/primary caregivers) will need to complete the screening forms. Approximately 832 mothers/primary caregivers of enrolled children will complete the questionnaires. All health and environmental exposure information about children will be provided by their mothers/primary caregivers (i.e., no children will fill out questionnaires).

There is no cost to the respondents other than their time to participate in the study. The total estimated annual burden hours equals 2,356.

Estimated Annualized Burden Hours
Type of respondents | Form name | Number of respondents | Number of responses per respondent | Average burden per response (in hrs)
Mothers/Primary caregivers of children with asthma | Screening Questionnaire | 1,000 | 1 | 10/60
Mothers/Primary caregivers of enrolled children | Baseline Questionnaire (Home Characteristics) | 832 | 1 | 15/60
Mothers/Primary caregivers of enrolled children | Baseline (Part 2) Questionnaire (Home Characteristics) | 832 | 1 | 5/60
Mothers/Primary caregivers of enrolled children | Baseline Questionnaire (Demographics) | 832 | 1 | 5/60
Mothers/Primary caregivers of enrolled children | Baseline Questionnaire (Children 7-12 with Asthma) | 832 | 1 | 15/60
Mothers/Primary caregivers of enrolled children | Text Messages (Children 7-12 with Asthma) | 832 | 8 | 1/60
Mothers/Primary caregivers of enrolled children | 3 and 9-month Follow-up Questionnaire (Children 7-12 with Asthma) | 832 | 2 | 5/60
Mothers/Primary caregivers of enrolled children | 6 and 12-month Follow-up Questionnaire (Environment) | 832 | 2 | 10/60
Mothers/Primary caregivers of enrolled children | 6 and 12-month Follow-up Questionnaire (Children 7-12 with Asthma) | 832 | 2 | 10/60
Mothers/Primary caregivers of enrolled children | Time/Activity Questionnaire (Children with Asthma 7-12 years) | 832 | 4 | 5/60
Mothers/Primary caregivers of enrolled children | Time/Activity Questionnaire (Mother/Primary Caregiver) | 832 | 4 | 5/60
Mothers/Primary caregivers of enrolled children | Illness Checklist | 832 | 4 | 5/60

Leroy Richardson,
Chief, Information Collection Review Office, Office of Scientific Integrity, Office of the Associate Director for Science, Office of the Director, Centers for Disease Control and Prevention.

[FR Doc. 2014-19104 Filed 8-12-14; 8:45 am]

BILLING CODE 4163-18-P